DEPARTMENT OF STATE

[Public Notice: 12399]

Notice of Department of State Sanctions Actions

ACTION: Notice.

SUMMARY: The U.S. Department of State's Office of Economic Sanctions Policy and Implementation (SPI) is publishing the name of one vessel that has been removed from the List of Specially Designated Nationals and Blocked Persons (SDN List) maintained by the Office of Foreign Assets Control (OFAC) and is consequently no longer subject to the prohibitions imposed pursuant to the Executive Order, “Blocking Property With Respect To Specified Harmful Foreign Activities of the Government of the Russian Federation.”

DATES: The actions described in this notice were effective on August 3, 2023.

FOR FURTHER INFORMATION CONTACT: Aaron P. Forsberg, Director, Office of Economic Sanctions Policy and Implementation, Bureau of Economic and Business Affairs, Department of State, Washington, DC 20520, tel.: (202) 647-7677, email: forsbergap@state.gov.

SUPPLEMENTARY INFORMATION:

Electronic Availability

The SDN List and additional information concerning OFAC sanctions programs are available from OFAC's website at http://www.treasury.gov/ofac.

Notice of Department of State Actions

On August 3, 2023, OFAC removed from the SDN List the vessel listed below, which was subject to prohibitions imposed pursuant to E.O. 14024 of April 15, 2021.

Entity

1. ADDICTION (9HA4571) Yacht Malta flag; Vessel Year of Build 2010; Vessel Registration Identification IMO 1010193; MMSI 248233000 (vessel) [RUSSIA-EO14024] (Linked To: ADONEV, Sergei Nikolaevich).

Amy E. Holman,
Principal Deputy Assistant Secretary, Bureau of Economic and Business Affairs, Department of State.

[FR Doc. 2024-10085 Filed 5-8-24; 8:45 am]

BILLING CODE 4710-07-P